Presidential Determination No. 2003-37 of September 14, 2003

U.S. Contribution to the Korean Peninsula Energy Development Organization: Determination Regarding Funds Under the Heading “Nonproliferation, Anti-Terrorism, Demining and Related Programs” in Title II of the Foreign Operations, Export Financing and Related Programs Appropriations, 2003, Division E of the Consolidated Appropriations Resolution, 2003 (Public Law 108-7) (the “Act”)

Memorandum for the Secretary of State

Consistent with the authority vested in me by section 562 of Division E of the Act, I hereby determine that it is vital to the national security interests of the United States to waive the restriction in that section and provide up to $3.72 million in funds made available under the heading “Nonproliferation, Anti-Terrorism, Demining and Related Programs” in title II of Division E of the Act, for assistance to the Korean Peninsula Energy Development Organization (KEDO) for administrative expenses only.

You are hereby authorized and directed to report this determination and the accompanying Memorandum of Justification, prepared by my Administration, to the Congress and to arrange for publication of this determination in the Federal Register.

B

THE WHITE HOUSE,

Washington, September 14, 2003.

[FR Doc. 03-24110

Filed 9-18-03; 8:45 am]

Billing code 4710-10-P